DEPARTMENT OF COMMERCE

National Oceanic and Atmospheric Administration (NOAA)

[Docket No. 000131021-0021-01]

National Weather Service (NWS) Modernization and Associated Restructuring; Final Certification of No Degradation of Service for the Combined Consolidation and/or Automation and Closure of Eight Weather Service Offices (WSO)

AGENCY: NWS, NOAA, Commerce.

ACTION: Notice.

SUMMARY: On January 28, 2000, the Under Secretary of Commerce for Oceans and Atmosphere transmitted to Congress notice of Consolidation and/or Automation and Closure certification approval for WSOs Hartford, Connecticut; Kahului, Hawaii; Portland, Maine; Boston and Worcester, Massachusetts; Concord, New Hampshire; Providence, Rhode Island; and Beckley, West Virginia. Pub. L. 102-567 requires the final certifications be published in the FR. This notice is intended to satisfy that requirement.

EFFECTIVE DATE: February 4, 2000.

ADDRESSES: Requests for copies of the final certification packages should be sent to Tom Beaver, Room 11426, 1325 East-West Highway, Silver Spring, MD 20910-3283.

FOR FURTHER INFORMATION CONTACT: Tom Beaver at 301-713-0300 ext. 136.

SUPPLEMENTARY INFORMATION: These eight certifications were proposed in the March 26, 1999, FR for public comment. The 60-day public comment period closed on May 26, 1999. One public comment was received from Mr. Jack W. Ferns, Director, State of New Hampshire Department of Transportation, pertaining to WSO Concord. The comment and the NWS response is set forth here for reference.

Comment on Concord: Mr. Ferns wrote, “A number of years ago our office opposed the consolidation of Flight Service Stations (FSS) and specifically the closure of the FSS at Concord. We felt strongly, at the time, that loosing [sic] the FSS would compromise aviation safety. Now with the proposed closure of the NWS we feel that Concord has been dealt a second blow.

While we understand the effects of automation on our economy and the existing modernization process, we continue to recognize that weather services available on a person to person basis is becoming obsolete.

Our Department supports your effort to commission and certify an Automated Surface Observing System (ASOS) at Concord. Thank you for the opportunity to respond.”

NWS Response: Mr. John Jensenius, Liaison Officer for WS Concord, spoke with Mr. Ferns to assure him of the NWS commitment to provide continued support to the Concord area. Mr. Ferns said he is disappointed he will no longer be able to walk to the Concord office and discuss the weather with NWS personnel. Mr. Jensenius told him he could call the Portland forecast office, located in Gray, Maine, anytime for a weather briefing and offered to provide Mr. Ferns with a tour of the Portland office. Mr. Ferns stated he would try to work a tour into his schedule.

At its June 25, 1999, meeting, the Modernization Transition Committee (MTC) endorsed these certifications as not resulting in a degradation of service.

After consideration of the public comment received and the MTC endorsements, the Under Secretary of Commerce for Oceans and Atmosphere approved these eight combined consolidation and/or automation and closure certifications and transmitted notice of approval to Congress on January 28, 2000. Certification approval authority was delegated from the Secretary of Commerce to the Under Secretary in June 1996. The NWS is now completing the certification requirements of Pub. L. 102-567 by publishing the final consolidation and/or automation and closure certification notice in the FR.

Dated: February 1, 2000.
John E. Jones, Jr.,
Deputy Assistant Administrator for Weather Services.

[FR Doc. 00-2572 Filed 2-3-00; 8:45 am]

BILLING CODE 3510-DS-P